FEDERAL RETIREMENT THRIFT INVESTMENT BOARD

5 CFR Parts 1630, 1651, 1653, and 1690

Thrift Savings Plan Service Office and ThriftLine Contact Information

AGENCY: Federal Retirement Thrift Investment Board.

ACTION: Final Rule.

SUMMARY: The Federal Retirement Thrift Investment Board (Agency) is adopting as final, without change, its proposed rule updating the Thrift Savings Plan's (TSP) participant services' contact information. The mailing addresses for the TSP's benefits processing units (e.g., correspondence, benefits request forms, court orders and legal process actions, death benefit claims) has changed from National Finance Center, P.O. Box 61500, New Orleans, Louisiana 70161-1500 to the current addresses provided at http://www.tsp.gov. (These units were formerly known collectively as the TSP Service Office.) Additionally, the TSP's ThriftLine telephone number has changed from (504) 255-8777 to (877) 968-3778.

DATES: This final rule is effective: August 25, 2006.

FOR FURTHER INFORMATION CONTACT: Merritt Willing on (202) 942-1666.

SUPPLEMENTARY INFORMATION: The Agency administers the TSP, which was established by the Federal Employees' Retirement System Act of 1986 (FERSA), Public Law 99-335, 100 Stat. 514. The TSP provisions of FERSA are codified, as amended, largely at 5 U.S.C. 8351 and 8401-79. The TSP is a tax-deferred retirement savings plan for Federal civilian employees and members of the uniformed services. The TSP is similar to cash or deferred arrangements established for private-sector employees under section 401(k) of the Internal Revenue Code (26 U.S.C. 401(k)).

On July 14, 2006, the Agency published a proposed rule with request for comments in the Federal Register (71 FR 40034). The Agency received no comments on the proposed rule. Therefore, the Agency is publishing the proposed rule as final without change.

The rule provides current contact information for the Agency's processing units and ThriftLine. In addition to providing participants with accurate contact information, the rule often directs participants to the TSP Web site as opposed to a specific address. Use of the Web site for reference will reduce Agency resources used to update such contact information.

Regulatory Flexibility Act

I certify that these regulations will not have a significant economic impact on a substantial number of small entities. They will affect only employees of the Federal Government.

Paperwork Reduction Act

I certify that these regulations do not require additional reporting under the criteria of the Paperwork Reduction Act.

Unfunded Mandates Reform Act of 1995

Pursuant to the Unfunded Mandates Reform Act of 1995, 2 U.S.C. 602, 632, 653, 1501-1571, the effects of this regulation on state, local, and tribal governments and the private sector have been assessed. This regulation will not compel the expenditure in any one year of $100 million or more by state, local, and tribal governments, in the aggregate, or by the private sector. Therefore, a statement under section 1532 is not required.

Submission to Congress and the General Accounting Office

Pursuant to 5 U.S.C. 810(a)(1)(A), the Agency submitted a report containing this rule and other required information to the U.S. Senate, the U.S. House of Representatives, and the Comptroller General of the United States before publication of this rule in the Federal Register. This rule is not a major rule as defined at 5 U.S.C. 814(2).

List of Subjects

5 CFR Part 1630

Privacy.

5 CFR Part 1651

Claims, Government employees, Pensions, Retirement.

5 CFR Part 1653

Alimony, Child support, Government employees, Pensions, Retirement.

5 CFR Part 1690

Government employees, Pensions, Retirement.

Gary A. Amelio,
Executive Director, Federal Retirement Thrift Investment Board.

Accordingly, for the reasons set forth in the preamble, 5 CFR chapter VI is amended as follows:

PART 1630—PRIVACY ACT REGULATIONS

1. The authority citation for part 1630 continues to read as follows:

Authority: 5 U.S.C. 552a.

2. Amend § 1630.4 by revising the third sentence of paragraph (a)(1) and the third sentence of paragraph (a)(2) to read as follows:

§ 1630.4 Request for Notification and access.

(a) * * *

(1) * * * The mailing address of the Thrift Savings Plan is provided at http://www.tsp.gov. * * *

(2) * * * To use the TSP ThriftLine, the participant must have a touch-tone telephone and call the following number: (877) 968-3778. * * *

* * * * *

PART 1651—DEATH BENEFITS

3. The authority citation for part 1651 continues to read as follows:

Authority: 5 U.S.C. 8424(d), 8432(j), 8433(e), 8435(c)(2), 8474(b)(5) and 8474(c)(1).

4. Amend § 1651.13 by adding a sentence at the end of the section to read as follows:

§ 1651.13 How to apply for a death benefit.

* * * Please visit http://www.tsp.gov to obtain a copy of this form and for the current mailing address for death benefit applications.

PART 1653—COURT ORDERS AND LEGAL PROCESSES AFFECTING THRIFT SAVINGS PLAN ACCOUNTS

5. The authority citation for part 1653 continues to read as follows:

Authority: 5 U.S.C. 8435, 8436(b), 8437(e), 8439(a)(3), 8467, 8474(b)(5) and 8474(c)(1).

6. Amend § 1653.3 by revising the third sentence of paragraph (b) introductory text to read as follows:

§ 1653.3 Processing retirement benefits court orders.

* * * * *

(b) * * * Retirement benefits court orders should be submitted to the TSP record keeper at the current address as provided at http://www.tsp.gov. * * *

* * * * *

7. Amend § 1653.13 by revising the third sentence of paragraph (b) introductory text to read as follows:

§ 1653.13 Processing legal processes.

* * * * *

(b) * * * Legal processes should be submitted to the TSP record keeper at the current address as provided at http://www.tsp.gov. * * *

* * * * *

PART 1690—THRIFT SAVINGS PLAN

8. The authority citation for part 1690 continues to read as follows:

Authority: 5 U.S.C. 8474.

9. Amend § 1690.1 by removing the definition of Thrift Savings Plan Service Office or TSPSO and by revising the definition of ThriftLine to read as follows:

§ 1690.1 Definitions.

* * * * *

ThriftLine means the automated voice response system by which TSP participants may, among other things, access their accounts by telephone. The ThriftLine can be reached at (877) 968-3778.

* * * * *

[FR Doc. E6-14097 Filed 8-24-06; 8:45 am]

BILLING CODE 6760-01-P